DEPARTMENT OF HEALTH AND HUMAN SERVICES

National Institutes of Health

Center for Scientific Review; Amended Notice of Meeting

Notice is hereby given of a change in the meeting of the HIV/AIDS Intra- and Inter-personal Determinants and Behavioral Interventions Study Section, April 24, 2025, 10:00 a.m. to April 25, 2025, 06:00 p.m., National Institutes of Health, Rockledge II, 6701 Rockledge Drive, Bethesda, MD 20892 which was published in the Federal Register on March 12, 2025, 90 FR 11835 Doc 2025-03905.

This meeting is being amended to change the Contact Person from Mark Rubert, Ph.D., to Joann Wu Shortt, Ph.D., Scientific Review Officer, Center for Scientific Review, National Institutes of Health, 6701 Rockledge Drive, Bethesda, MD 20892, 301-827-7375. The meeting is closed to the public.

Dated: March 17, 2025.
Melanie J. Pantoja,
Program Analyst, Office of Federal Advisory Committee Policy.

[FR Doc. 2025-04779 Filed 3-19-25; 8:45 am]

BILLING CODE 4140-01-P